DEPARTMENT OF COMMERCE

National Oceanic and Atmospheric Administration

RIN 0648-XC986

Takes of Marine Mammals Incidental to Specified Activities; Taking Marine Mammals Incidental to Rocky Intertidal Monitoring Surveys on the South Farallon Islands, California

AGENCY: National Marine Fisheries Service (NMFS), National Oceanic and Atmospheric Administration (NOAA), Commerce.

ACTION: Notice; withdrawal of an incidental take authorization application.

SUMMARY: Notice is hereby given that the National Ocean Service's Office of National Marine Sanctuaries Gulf of the Farallones National Marine Sanctuary (GFNMS) has withdrawn its application for an Incidental Harassment Authorization (IHA). The following action is in relation to a proposed IHA to GFNMS for the take of small numbers of marine mammals, by harassment, incidental to rocky intertidal monitoring work and searching for black abalone, components of the Sanctuary Ecosystem Assessment Surveys.

ADDRESSES: A copy of the application, which contains several attachments, including COP's marine mammal mitigation and monitoring plan and Plan of Cooperation, can be viewed on the internet at: http://www.nmfs.noaa.gov/pr/permits/incidental.htm.

FOR FURTHER INFORMATION CONTACT: Candace Nachman, Office of Protected Resources, NMFS, (301) 427-8401.

SUPPLEMENTARY INFORMATION: On September 12, 2013, NMFS received an application from GFNMS for the taking of marine mammals incidental to rocky intertidal monitoring work and searching for black abalone. NMFS determined that the application was adequate and complete on November 14, 2013. The requested IHA was for an authorization to take, by Level B harassment, small numbers of five species of marine mammals incidental to GFNMS' rocky intertidal monitoring work and the search for black abalone in areas previously unexplored for black abalone from January 25 through February 1, 2014. NMFS published a Notice of Proposed IHA, initiating a 30-day public comment period, on November 27, 2013 (78 FR 70921). On January 14, 2014, NMFS accepted notice from GFNMS withdrawing their IHA application for the proposed action. The trip was cancelled due to a lack of funding. Therefore, NMFS did not issue an IHA for the proposed specified activity.

Donna S. Wieting,
Director, Office of Protected Resources, National Marine Fisheries Service.

[FR Doc. 2014-05471 Filed 3-12-14; 8:45 am]

BILLING CODE 3510-22-P